ENVIRONMENTAL PROTECTION AGENCY

40 CFR Part 52

[Docket Number: WA-04-001; FRL-7668-6]

Approval and Promulgation of State Implementation Plans: Washington; Central Puget Sound Carbon Monoxide and Ozone Second 10-Year Maintenance Plans

Correction

In proposed rule document 04-12302 beginning on page 30847 in the issue of Tuesday, June 1, 2004, make the following correction:

On page 30850, in the third Table, the heading “CENTRAL PUGET SOUND MAINTENANCE AREA WINTER DAY NOX EMISSIONS (TONS) BY SOURCE CATEGORY” should read “CENTRAL PUGET SOUND MAINTENACE AREA WINTER DAY CO EMISSIONS (TONS) BY SOURCE CATEGORY”

[FR Doc. C4-12302 Filed 7-27-04; 8:45 am]

BILLING CODE 1505-01-D

DEPARTMENT OF HEALTH AND HUMAN SERVICES

Centers for Disease Control and Prevention

Expansion of Psychosocial Support and Peer Counseling Services to HIV-Infected Women and Their Families in Botswana

Correction

In notice document 04-16412 beginning on page 43421 in the issue of Tuesday, July 20, 2004, make the following correction:

On page 43421, in the second column, in the sixth and seventh lines, under Application Deadline:, “August 20, 2004” should read, “August 19, 2004.”

[FR Doc. C4-16412 Filed 7-27-04; 8:45 am]

BILLING CODE 1505-01-D